DEPARTMENT OF COMMERCE

National Oceanic and Atmospheric Administration

RIN 0648-XN86

Notice of Decision to Expand Scope of the Environmental Impact Statement Analyzing Mitchell Act Funding and Operation of Columbia River Hatcheries

AGENCY: National Marine Fisheries Service (NMFS), National Oceanic and Atmospheric Administration, Commerce.

ACTION: Notice; request for comments.

SUMMARY: The National Marine Fisheries Service (NMFS) announces its decision to expand the scope of the Mitchell Act Hatchery Environmental Impact Statement (EIS) to include analysis of the environmental effects of hatchery programs in a way that will inform future NMFS decisions about Endangered Species Act compliance for all Columbia River hatchery programs. Our previous notice of intent to prepare an EIS on the funding and operation of Columbia River hatcheries under the Mitchell Act was published on September 3, 2004. We are opening a 30-day comment period on our decision to expand the scope.

DATES: Written or electronic comments from all interested parties are encouraged and must be received no later than 5 p.m. Pacific Standard Time April 13, 2009.

ADDRESSES: All comments concerning the preparation of the EIS and NEPA process should be addressed to: Patty Dornbusch, NMFS, 1201 N.E. Lloyd Blvd., Suite 1100, Portland, OR 97232. Comments may also be submitted via fax (503) 872-2737 Attn: Mitchell Act Hatchery EIS, or by electronic mail to MitchellActEIS.nwr@noaa.gov with a subject line containing the document identifier: “Mitchell Act Hatchery EIS.”

FOR FURTHER INFORMATION CONTACT: Contact Patty Dornbusch, NMFS Northwest Region, (503) 230-5430.

SUPPLEMENTARY INFORMATION:

Background

On September 3, 2004 (69 FR 53892), NMFS announced its intent to prepare an EIS pursuant to the National Environmental Policy Act (NEPA) (42 U.S.C. 4321 et seq.) and to conduct public scoping related to the allocation and distribution of Mitchell Act funds for Columbia River hatchery operations. A 90-day public comment period to seek input on the scope of the required NEPA analysis, including the range of reasonable alternatives and the associated impacts on resources, was open from September 3, 2004, to December 2, 2004.

During the original scoping process, it became clear that the interrelationship between hatchery production funded under the Mitchell Act and other hatchery production in the Columbia River basin would need to be considered. Not all hatchery programs in the Columbia River basin are funded under the Mitchell Act; however, decisions about salmon and steelhead produced with Mitchell Act funds (e.g., the populations chosen for artificial production, the size of those production programs, location) are coordinated and interrelated with decisions about the remainder of natural and artificial production in the Columbia River basin (i.e., non-Mitchell Act-funded production). Because of this interrelationship, NMFS determined that the EIS must assess artificial production throughout the entire basin, regardless of the hatchery funding source, in order to properly assess all environmental effects that occur in the basin related to hatchery production. Consequently, NMFS anticipates using information generated by this EIS to inform its determinations under Endangered Species Act (ESA) sections 4(d), 7, 10(a)(1)(A), and 10(a)(1)(B) for both Mitchell Act and non-Mitchell Act hatchery programs. This EIS will not result in decisions on ESA compliance. Should hatchery managers propose to operate non-Mitchell Act-funded facilities in a manner that is within the scope of the environmental review in this EIS, NMFS' future ESA determinations on those production programs may be informed by the analysis within this EIS. While the expanded scope will analyze non-Mitchell Act-funded programs to inform ESA decisions, the Record of Decision for this EIS will not address decisions on ESA compliance. Further, NMFS believes that conducting a broad review of the environmental effects from all Columbia River basin hatchery programs will provide a comprehensive approach to analyzing cumulative effects within the basin as a result of Mitchell Act funding.

Request for Comments

NMFS solicits written comments from the public. We request that the comments be as specific as possible with regard to our expansion of the scope of the EIS to include informing NMFS' future ESA determinations on non-Mitchell Act programs. All comments and materials received, including names and addresses, will become part of the administrative record and may be released to the public. The environmental review of this project will be conducted in accordance with the requirements of the National Environmental Policy Act of 1969, as amended, Council on Environmental Quality Regulations (40 CFR 1500-1508), other applicable Federal laws and regulations, and applicable policies and procedures. This notice is being furnished in accordance with 40 CFR 1501.7 of NEPA to obtain suggestions and information from other agencies and the public on the scope of issues and alternatives to be addressed in the EIS.

Dated: March 6, 2009.
Emily H. Menashes,
Acting Director, Office of Sustainable Fisheries, National Marine Fisheries Service.

[FR Doc. E9-5383 Filed 3-11-09; 8:45 am]

BILLING CODE 3510-22-S